DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2006 Senior Executive service (SES) Standing Performance Review Boards (PRBs). The purpose of the PRBs is to provide fair and impartial review of SES performance appraisals, bonus recommendations and pay adjustments. The PRBs will make recommendations regarding the final performance ratings to be assigned, SES bonuses and/or pay adjustments to be awarded.

FOR FURTHER INFORMATION CONTACT: Rod Markham, Deputy Director, Personnel Staff, Justice Management Division, Department of Justice, Washington, DC 20530; (202) 514-4350.

Lee J. Lofthus,
Acting Assistant Attorney General for Administration.

Department of Justice
BUREAU OF ALCOHOL, TOBACCO, FIREARMS, AND EXPLOSIVES
BAILEY, GREGG D | ASSISTANT DIRECTOR (SCIENCE AND TECHNOLOGY/CHIEF INFORMATION OFFICER).
BARAN, VIVIAN A | DEPUTY ASSISTANT DIRECTOR (OFFICE OF MANAGEMENT).
BARRERA, HUGO | DEPUTY ASSISTANT DIRECTOR (OFFICE OF STRATEGIC INTELLIGENCE AND INFORMATION).
BELL, WILLIAM L | DEPUTY ASSISTANT DIRECTOR (SCIENCE & TECHNOLOGY).
BOUCHARD, MICHAEL R | ASSISTANT DIRECTOR (FIELD OPERATIONS).
CARROLL, CARSON W | DEPUTY ASSISTANT DIRECTOR (FIELD OPERATIONS CENTRAL).
CARTER, DONNIE A | SPECIAL AGENT IN CHARGE (HOUSTON FIELD DIVISION).
CARTER, RONNIE A | SPECIAL AGENT IN CHARGE (DALLAS FIELD DIVISION).
CAVANAUGH, JAMES M | DIVISION DIRECTOR/SPECIAL AGENT IN CHARGE (NASHVILLE FIELD DIVISION).
CHASE, RICHARD E | ASSISTANT DIRECTOR (OFFICE OF PROFESSIONAL RESPONSIBILITY AND SECURITY OPERATIONS).
DOMENECH, EDGAR AXEL | DEPUTY DIRECTOR.
ETHRIDGE, MICHAEL W | DIRECTOR (LABORATORY SERVICES).
FORD, WILFRED L | ASSISTANT DIRECTOR (PUBLIC AND GOVERNMENTAL AFFAIRS).
HARRIS, GREGORY PAUL | CHIEF OF STAFF.
HOOVER, WILLIAM | SPECIAL AGENT IN CHARGE (WASHINGTON FIELD DIVISION DIRECTOR).
KOETT, IMELDA M | DEPUTY CHIEF COUNSEL.
LOGAN, MARK | ASSISTANT DIRECTOR (TRAINING AND PROFESSIONAL DEVELOPMENT).
LOOS, ELEANER R | ASSOCIATE CHIEF COUNSEL (ADMINISTRATION/ETHICS).
MASSEY, KENNETH | DEPUTY ASSISTANT DIRECTOR (OFFICE OF PROFESSIONAL RESPONSIBILITY AND SECURITY OPERATIONS).
MCDERMOND, JAMES E | ASSISTANT DIRECTOR (OFFICE OF STRATEGIC INTELLIGENCE AND INFORMATION).
MCLEMORE, VANESSA L | SPECIAL AGENCY IN CHARGE (ATLANTA FIELD DIVISION).
MCMAHON JR, WILLIAM G | DIVISION DIRECTOR/SPECIAL-AGENT-IN-CHARGE (NEW YORK).
O'BRIEN, VIRGINIA T | DEPUTY ASSISTANT DIRECTOR (FIELD OPERATIONS EAST).
RADEN, LEWIS P | ASSISTANT DIRECTOR (ENFORCEMENT PROGRAM AND SERVICES).
RUBENSTEIN, STEPHEN R | CHIEF COUNSEL.
STINNETT, MELANIE S | ASSISTANT DIRECTOR (OFFICE OF MANAGEMENT).
STOOP, THERESA R | DEPUTY ASSISTANT DIRECTOR (TRAINING AND PROFESSIONAL DEVELOPMENT).
STUCKO, AUDREY | DEPUTY ASSISTANT DIRECTOR (ENFORCEMENT PROGRAM AND SERVICES).
TORRES, JOHN A | DIVISION DIRECTOR/SPECIAL AGENT IN CHARGE (LOS ANGELES, CALIFORNIA).
WEBB, JAMES D | DEPUTY ASSISTANT DIRECTOR (FIELD OPERATIONS WEST).
ZAMMILLO SR, JAMES A | DEPUTY ASSISTANT DIRECTOR (INDUSTRY OPERATIONS).
ANTITRUST DIVISION
BOTTI, MARK J | CHIEF, LITIGATION I SECTION.
CONNOLLY, ROBERT E | CHIEF, PHILADELPHIA FIELD OFFICE.
DAVIS, NEZIDA S | CHIEF, ATLANTA FIELD OFFICE.
FAMILANT, NORMAN | CHIEF, ECONOMIC LITIGATION SECTION.
GIORDANO, RALPH T | CHIEF, NEW YORK FIELD OFFICE.
GOODMAN, NANCY M | CHIEF, TELECOMMUNICATIONS AND MEDIA SECTION.
HAMMOND, SCOTT D | DEPUTY ASSISTANT ATTORNEY GENERAL/CRIMINAL ENFORCEMENT.
HAND, EDWARD T | CHIEF, FOREIGN COMMERCE SECTION.
HEYER, KENNETH | DIRECTOR OF ECONOMICS.
KING, THOMAS D | EXECUTIVE OFFICER.
KRAMER II, J. ROBERT | DIRECTOR OF OPERATIONS.
KURSH, GAIL | DEPUTY DIRECTOR, LEGAL POLICY.
MAJURE, WILLIAM R | CHIEF, COMPETITION SECTION.
MASOUDI, GERALD F | DEPUTY ASSISTANT ATTORNEY GENERAL.
MCDONALD, JOHN B | DEPUTY ASSISTANT ATTORNEY GENERAL.
MEYER, DAVID L | DEPUTY ASSISTANT ATTORNEY GENERAL.
O SULLIVAN, CATHERINE G | CHIEF, APPELLATE SECTION.
PETRIZZI, MARIBETH | CHIEF, LITIGATION II SECTION.
PHELAN, LISA M | CHIEF, NATIONAL CRIMINAL ENFORCEMENT SECTION.
POTTER, ROBERT A | CHIEF, LEGAL POLICY SECTION.
PRICE JR, MARVIN N | CHIEF, CHICAGO FIELD OFFICE.
READ, JOHN R | CHIEF, LITIGATION III.
WARREN, PHILLIP H | CHIEF, SAN FRANCISCO FIELD OFFICE.
WATSON, SCOTT M | CHIEF, CLEVELAND FIELD OFFICE.
BUREAU OF PRISONS
ADAMS, VANESSA P | WARDEN, PETERSBURG, VIRGINIA.
ANDERSON, MARTY C | WARDEN, ROCHESTER, MINNESOTA.
APKER JR, LIONEL C | WARDEN, OTISVILLE, NEW YORK.
BEELER JR, ARTHUR F | WARDEN, BUTNER, NORTH CAROLINA.
BENOV, MICHAEL L | SENIOR WARDEN, LOS ANGELES, CALIFORNIA.
BEUSSE, ROBIN LITMAN | SENIOR DEPUTY ASSISTANT DIRECTOR FOR ADMINISTRATION.
BEZY, MARK A | WARDEN, TERRE HAUTE, INDIANA.
BLEDSOE, BRYAN A | WARDEN, LEE, WEST VIRGINIA.
BOOKER, JOE W | WARDEN, PHOENIX, ARIZONA.
CHEVEZ, RICARDO E | WADEN, TUCSON, ARIZONA.
COMPTON, BOBBY G | WARDEN, LOMPOS, CALIFORNIA.
CONLEY, JOYCE K | SENIOR DEPUTY ASSISTANT DIRECTOR, CORRECTIONAL PROGRAMS DIVISION.
DALIUS JR, WILLIAM F | SENIOR DEPUTY ASSISTANT DIRECTOR, ADMINISTRATION DIVISION.
DANIELS, CHARLES | WARDEN, SHERIDAN, OREGON.
DEWALT, STEPHEN M | WARDEN, LEXINGTON, KENTUCKY.
DODRILL, D. SCOTT | REGIONAL DIRECTOR, NORTHEAST REGION.
DREW, DARRYL | WARDEN TALLADEGA, ALABAMA.
FELTS, CHARLES | WARDEN BECKLEY, WEST VIRGINIA.
FRANCIS, JOYCE | WARDEN, GILMER, WEST VIRGINIA.
GARRETT, MICHAEL W | SENIOR DEPUTY ASSISTANT DIRECTOR PROGRAM REVIEW DIVISION.
GRAYER, LOREN A | WARDEN, MIAMI, FLORIDA.
GUNJA, JOSEPH E | REGIONAL DIRECTOR, WESTERN REGION.
HASTINGS, SUZANNE R | WARDEN, BIG SANDY, KENTUCKY.
HAYNES, ALFONSO | WARDEN, HAZELTON, WEST VIRGINIA.
HOLDER, CARLYLE I | WARDEN, COLEMAN, FLORIDA.
HOLLINGSWORTH, LISA | WARDEN, CUMBERLAND, MARYLAND.
HOLT, RAYMOND E | REGIONAL DIRECTOR, SOUTHEAST REGION.
HOLT, RONNIE R | WARDEN, SCHUYLKILL, PENNSYLVANIA.
JETER, COLE A | WARDEN, FORT WORTH, TEXAS.
JOHNS, TRACY W | WARDEN, COLEMAN, FLORIDA.
KANE, THOMAS R | ASSISTANT DIRECTOR, INFORMAITON, POLICY, AND PUBLIC AFFAIRS DIVISION.
KEFFER, JOSEPH E | WARDEN, OKLAHOMA CITY, OKLAHOMA.
KENDALL, PAUL F | SENIOR COUNSEL/LEGAL ADMINISTRATIVE.
KENNEY, KATHLEEN M | ASSISTANT DIRECTOR, OFFICE OF GENERAL COUNSEL.
LAIRD, PAUL M | WARDEN, BROOKLYN, NEW YORK.
LAMANNA, JOHN J | WARDEN, EDGEFIELD, SOUTH CAROLINA.
LAPPIN, HARLEY G | DIRECTOR
LE BLANC JR, WHITNEY I | ASSISTANT DIRECTOR FOR HUMAN RESOURCES MANAGEMENT.
LEDEZMA, HECTOR | WARDEN, BUAYNABO, PUERTO RIC0.
LINDSAY, CAMERON K | WARDEN, CANAAN, WAYMART, PENNSYLVANIA.
MALDONADO JR, GERARDO | REGIONAL DIRECTOR, SOUTH CENTRAL REGION.
MARTINEZ, RICARDO | WARDEN, OXFORD, WISCONSIN.
MCFADDEN, ROBERT E | WARDEN, SPRINGFIELD, MISSOURI.
MENIFEE, FREDRICK | WARDEN, POLLUCK, LOUISIANA.
MINER, JONATHAN C | WARDEN, FAIRTON, NEW JERSEY.
MORRISON, MARVIN D | WARDEN, NEW YORK, NEW YORK.
NALLEY, MICHAEL K | REGIONAL DIRECTOR, NORTH CENTRAL REGION.
NORWOOD, JOSEPH L | WARDEN, VICTORVILLE, CALIFORNIA.
O'BRIEN, TERENCE T | WARDEN, LEE, VIRGINIA.
OUTLAW, TIMOTHY C | WARDEN, UNITED STATES PENITENTIARY, BEAUMONT, TEXAS.
PEARSON, BRUCE | WARDEN, MEMPHIS TENNESSEE.
REESE, CONSTANCE N | WARDEN, YAZOO CITY, TEXAS.
RIOS JR, HECTOR | WARDEN, FLORENCE, COLORADO.
SAMUELS, CHARLES E. JR | WARDEN, FORT DIX, NEW JERSEY.
SANDERS, LINDA L | WARDEN, FORREST CITY, ARKANSAS.
SASSER, BRUCE KENT | ASSISTANT DIRECTOR FOR ADMINISTRATION.
SCHULTZ, PAUL M | WARDEN, FAIRTON, NEW JERSEY.
SCHWALB, STEVEN B | ASSISTANT DIRECTOR, INDUSTRIES, EDUCATION AND VOCATIONAL TRAINING DIVISION.
SCIBANA, JOSEPH M | WARDEN, EL RENO, OKLAHOMA.
SMITH, DENNIS | WARDEN, ATWATER, CALIFORNIA.
STANSBERRY, PATRICIA RAY | WARDEN, BUTNER, NORTH CAROLINA.
STINE, DONALD L | WARDEN, MCCREARY, KENTUCKY.
TERRELL, DUDLEY J | WARDEN, LEAVENWORTH, KANSAS.
THIGPEN SR, MORRIS L | DIRECTOR, NATIONAL INSTITUTE OF CORRECTIONS.
VAN BUREN, VIRGINIA L | WARDEN, CARSWELL, TEXAS.
VANYUR, JOHN M | ASSISTANT DIRECTOR, CORRECTIONAL PROGRAMS DIVISION.
VAZQUEZ, JOSE M | WARDEN, JESUP, GEORGIA.
WHITE KIM M | REGIONAL DIRECTOR, MIDDLE ATLANTIC REGION.
WILEY, RONNIE | WARDEN, FLORENCE, COLORADO.
WILLIAMSON, TROY W | WARDEN, ALLENWOOD, PENNSYLVANIA.
WINN, DAVID L | WARDEN, DEVENS, MISSISSIPPI.
YOUNG JR, JOSEPH P | WARDEN, OAKDALE, LOUISIANA.
ZENK, MICHAEL A | WARDEN, ATLANTA, GEORGIA.
CIVIL DIVISION
BAXTER, FELIX V | BRANCH DIRECTOR (FEDERAL PROGRAM).
BECKNER, C. FREDERICK | DEPUTY ASSISTANT ATTORNEY GENERAL.
BORDEAUX, JOANN J | DEPUTY BRANCH DIRECTOR (TORTS).
BRANDA, JOYCE R | DEPUTY BRANCH DIRECTOR (COMMERCIAL).
BRUEN JR, JAMES G | SPECIAL LITIGATION COUNSEL.
BUCHOLTZ, JEFFREY S | PRINCIPAL DEPUTY ASSISTANT ATTORNEY GENERAL.
COHEN, DAVID M | BRANCH DIRECTOR (COMMERCIAL).
COHN, JONATHAN F | DEPUTY ASSISTANT ATTORNEY GENERAL.
COPPOLINO, ANTHONY J | SPEICAL LITIGATION COUNSEL (FEDERAL PROGRAMS).
DAVIDSON, JEANNE E | DEPUTY BRANCH DIRECTOR (COMMERCIAL).
FARGO, JOHN J | BRANCH DIRECTOR (COMMERCIAL).
FROST, PETER F | BRANCH DIRECTOR (TORTS).
GARREN, TIMOTHY PATRICK | BRANCH DIRECTOR (TORTS).
GARVEY, VINCENT MORGAN | DEPUTY BRANCH DIRECTOR (FEDERAL PROGRAMS).
GLYNN, JOHN PATRICK | BRANCH DIRECTOR (TORTS).
HERTZ, MICHAEL F | BRANCH DIRECTOR (COMMERCIAL).
HOLLIS, ROBERT MARK | OFFICE DIRECTOR (SPECIAL LITIGATION COUNSEL).
HUNT, JOSEPH H | BRANCH DIRECTOR (FEDERAL PROGRAMS).
HUSSEY, THOMAS W | DIRECTOR, OFFICE OF IMMIGRATION.
KANTER, WILLIAM G | DEPUTY DIRECTOR (APPELLATE STAFF).
KATSAS, GREGORY G | DEPUTY ASSISTANT ATTORNEY GENERAL.
KINSELLA, JAMES M | DEPUTY DIRECTOR (COMMERCIAL).
KLINE, DAVID J | DEPUTY BRANCH DIRECTOR (OIL).
KOHN, J. CHRISTOPHER | BRANCH DIRECTOR (COMMERCIAL).
KOPP, ROBERT E | DIRECTOR, APPELLATE STAFF.
LETTER, DOUGLAS N | APPELLATE LITIGATION COUNSEL.
LIEBER, SHEILA M | DEPUTY BRANCH DIRECTOR.
MCCONNELL, DAVID M | DEPUTY DIRECTOR (OPERATIONS), OFFICE OF MITIGATION LITIGATION.
NICHOLS, CARL J | DEPUTY ASSISTANT ATTORNEY GENERAL.
O MALLEY, BARBARA B | SPECIAL LITIGATION COUNSEL.
PYLES, PHYLLIS J | BRANCH DIRECTOR (TORTS).
RIVERA, JENNIFER D | BRANCH DIRECTOR (FEDERAL PROGRAMS).
SCHIFFER, STUART E | DEPUTY ASSISTANT ATTORNEY GENERAL.
SPOONER, SANDRA P | DEPUTY BRANCH DIRECTOR (COMMERCIAL).
STERN, MARK B | APPELLATE LITIGATION COUNSEL.
THIROLF, EUGENE M | DIRECTOR, OFFICE OF CONSUMER LITIGATION.
ZWICK, KENNETH L | DIRECTOR OF MANAGEMENT PROGRAMS.
OFFICE OF COMMUNITY ORIENTED POLICING SERVICES
PEED, CARL R | DIRECTOR.
CRIMINAL DIVISION
ALEXANDER, CARL | DIRECTOR, OFFICE OF OVERSEAS PROSECUTORIAL DEVELOPMENT ASSISTANCE AND TRAINING.
DION, JOHN J | CHIEF, COUNTERESPIONAGE SECTION.
EDELMAN, RONNIE L | DEPUTY CHIEF, COUNTERTERRORISM SECTION.
GLAZER, SIDNEY | SENIOR APPELLATE COUNSEL.
GOLDBERG, STUART M | DEPUTY CHIEF FOR LITIGATION, PUBLIC INTEGRITY SECTION.
HILLMAN, NOEL L | CHIEF, PUBLIC INTEGRITY SECTION.
JOHNSON, PAUL R | SPECIAL ADVISOR TO THE ASSISTANT ATTORNEY GENERAL.
JONES, JOSEPH M | CHIEF OF INTERNATIONAL TRAINING AND DEVELOPMENT.
KEENEY, JOHN C | DEPUTY ASSISTANT ATTORNEY GENERAL.
KILLION, MAUREEN H | SENIOR ASSOCIATE DIRECTOR.
MANDELKER, SIGAL P | DEPUTY ASSISTANT ATTORNEY GENERAL.
MCHENRY, TERESA L | CHIEF, DOMESTIC SECURITY SECTION.
MCNALLY, EDWARD E | SENIOR COUNSEL.
OHR, BRUCE G | CHIEF, ORGANIZED CRIME & RACKETEERING SECTION.
OOSTERBAAN, ANDREW | CHIEF, CHILD EXPLOITATION AND OBSCENITY SECTION.
PADDEN, THOMAS WILLIAM | PRINCIPAL DEPUTY CHIEF, NARCOTIC AND DANGEROUS DRUG SECTION.
PAINTER, CHRISTOPHER M | DEPUTY CHIEF, COMPUTER CRIME AND INTELLECTUAL PROPERTY SECTION.
PARENT, STEVEN J | EXECUTIVE OFFICER.
PARSKY, LAURA HAAS | DEPUTY ASSISTANT ATTORNEY GENERAL.
REYNOLDS, JAMES S | SENIOR COUNSEL TO THE ASSISTANT ATTORNEY GENERAL.
RICHARD, MARK M | SENIOR COUNSEL.
ROGERS, RICHARD M | SENIOR COUNSEL TO THE ASSISTANT ATTORNEY.
ROSENBAUM, ELI M | DIRECTOR, OFFICE OF SPECIAL INVESTIGATIONS.
SABIN, BARRY M | CHIEF, COUNTER TERRORISM SECTION.
SAMUELS, JULIE E | DIRECTOR, OFFICE OF POLICY & LEGISLATION.
STANSELL GAMM, MARTHA J | CHIEF, COMPUTER CRIME, & INTELLECTUAL PROPERTY SECTION.
STEMLER, PATTY MERKAMP | CHIEF, APPELLATE SECTION.
SWARTZ, BRUCE CARLTON | DEPUTY ASSISTANT ATTORNEY GENERAL.
WARLOW, MARY ELLEN | DIRECTOR, OFFICE OF INTERNATIONAL AFFAIRS.
WARREN, MARY LEE | DEPUTY ASSISTNT ATTORNEY GENERAL.
WEBER, RICHARD M | CHIEF, ASSET FORFEITURE AND MONEY LAUNDERING SECTION.
CIVIL RIGHTS DIVISION
AGARWAL, ASHEESH | DEPUTY ASSISTANT ATTORNEY GENERAL.
BALDWIN, KATHERINE A | DEPUTY SPECIAL COUNSEL.
BECKER, GRACE CHUNG | DEPUTY ASSISTANT ATTORNEY GENERAL.
BROWN CUTLAR, SHANETTA | CHIEF, SPECIAL LITIGATION SECTION.
COMISAC, RENA JOHNSON | PRINCIPAL DEPUTY ASSISTANT ATTORNEY GENERAL.
FLYNN, DAVID K | CHIEF, APPELLATE SECTION.
FRIEDLANDER, MERRILY A | CHIEF, COORDINATION & REVIEW SECTION.
GLASSMAN, JEREMIAH | CHIEF, EDUCATIONAL OPPORTUNITIES.
GREENE, IRVA D | EXECUTIVE OFFICER.
KAPPLEHOFF, MARK JOHN | CHIEF, CRIMINAL SECTION.
KING, LORETTA | DEPUTY ASSISTANT ATTORNEY GENERAL.
PALMER, DAVID J | CHIEF, EMPLOYMENT LITIGATION SECTION.
ROSENBAUM, STEVEN H | CHIEF, HOUSING AND CIVIL ENFORCEMENT.
SCHLOZMAN, BRADLEY J | DEPUTY ASSISTANT ATTORNEY GENERAL.
TANNER, JOHN K | CHIEF, VOTING SECTION.
WODATCH, JOHN L | CHIEF, DISABILITY RIGHTS SECTION.
ENVIRONMENT AND NATURAL RESOURCES DIVISION
ALEXANDER, S. CRAIG | CHIEF, INDIAN RESOURCES SECTION.
BRUFFY, ROBERT L | EXECUTIVE OFFICER.
BUTLER, VIRGINIA P | CHIEF, LAND ACQUISITION SECTION.
CRUDEN, JOHN C | DEPUTY ASSISTANT ATTORNEY GENERAL.
DISHEROON, FRED R | SPECIAL LITIGATION COUNSEL.
FISHEROW, W. BENJAMIN | DEPUTY CHIEF ENVIRONMENT ENFORCEMENT.
GELBER, BRUCE S | CHIEF, ENVIRONMENTAL ENFORCEMENT.
GRISHAW, LETITIA J | CHIEF, ENVIRONMENTAL DEFENSE SECTION.
HAUGRUD, K. JACK | CHIEF, GENERAL LITIGATION SECTION.
KILBOURNE, JAMES C | CHIEF, APPELLATE SECTION.
MAHAN, ELLEN M | DEPUTY CHIEF, ENVIRONMENTAL ENFORCEMENT SECTION.
MCKEOWN, MATTTHEW J | PRINCIPAL DEPUTY ASSISTANT SECRETARY.
MILIUS, PAULINE H | CHIEF, LAW AND POLICY SECTION.
NELSON, RYAN D | DEPUTY ASSISTANT ATTORNEY GENERAL.
SOBECK, EILEEN | DEPUTY ASSISTANT ATTORNEY GENERAL.
STEWART, HOWARD P | SENIOR LITIGATION COUNSEL.
UHLMANN, DAVID M | CHIEF, ENVIRONMENTAL CRIMES SEC.
WILLIAMS, JEAN E | CHIEF, WILDLIFE & MARINE RESOURCES.
EXECUTIVE OFFICE FOR IMMIGRATION REVIEW
CREPPY, MICHAEL J | CHIEF, ADMINISTRATIVE HEARING OFFICER.
KELLER, MARY E | GENERAL COUNSEL.
NASCA, PAULA N | ASSOCIATE DIRECTOR.
OHLSON, KEVIN A | DEPUTY DIRECTOR.
PERKINS, JACK | DIRECTOR OF OPERATIONS (BOARD OF IMMIGRATION APPEALS).
ROONEY, KEVIN D | DIRECTOR.
SCIALABBA, LORI L | CHAIRMAN, BOARD OF IMMIGRATION APPEALS.
EXECUTIVE OFFICE FOR UNITED STATES ATTORNEY
BAILIE, MICHAEL W | DIRECTOR, OFFICE OF LEGISLATIVE EDUCATION.
BATTLE, MICHAEL A | DIRECTOR.
BEVELS, LISA A | DEPUTY DIRECTOR FINANCIAL MANAGEMENT.
DOWNS, DAVID W | DEPUTY DIRECTOR FOR OPERATIONS.
PARENT, STEVEN J | DEPUTY DIRECTOR.
EXECUTIVE OFFICE FOR UNITED STATES TRUSTEES
MILLER, JEFFREY M | ASSOCIATE DIRECTOR.
WHITE III, CLIFFORD J | ACTING DIRECTOR.
JUSTICE MANAGEMENT DIVISION
ALLEN, MICHAEL H | DEPUTY ASSISTANT ATTORNEY GENERAL FOR POLICY, MANAGEMENT, AND PLANNING.
BEASLEY, ROGER | DIRECTOR, OPERATION SERVICES STAFF.
DEACON, RONALD L | DIRECTOR, FACILITY ADMINISTRATION SERVICES STAFF.
DESSEY, BLANE K | DIRECTOR, LIBRARY STAFF.
DUFFY, MICHAEL D | DIRECTOR, E-GOVERNMENT SERVICES STAFF.
DUNLAP, JAMES L | DIRECTOR, SECURITY AND EMERGENCY PLANNING STAFF.
FRISCH, STUART | GENERAL COUNSEL.
HAGGERTY, KATHLEEN A | DIRECTOR, DEBT COLECTION MANAGEMENT STAFF.
HERETICK, DENNIS J | DIRECTOR, INFORMATION SECURITY STAFF.
HITCHY, VANCE E | DEPUTY ASSISTANT ATTORNEY GENERAL/CHIEF INFORMATION OFFICER.
HOLTGREWE, KENT L | DIRECTOR, INFORMATION TECHNOLOGY POLICY AND PLANNING STAFF.
JOHNSTON, JAMES W | DIRECTOR, PROCUREMENT SERVICES STAFF.
LAURIA SULLENS, JOLENE A | DIRECTOR, BUDGET STAFF.
LINDSEY, JUSTIN R | CHIEF TECHNOLOGY OFFICER.
LOFTHUS, LEE J | DEPUTY ASSISTANT ATTORNEY GENERAL/CONTROLLER.
MARKHAM, RODNEY E | DEPUTY DIRECTOR, PERSONNEL STAFF.
MORGAN, MELINDA B | DIRECTOR, FINANCE STAFF.
MURRAY, JOHN W | DIRECTOR, ENTERPRISE SOLUTIONS STAFF.
O LEARY, KARIN | DEPUTY DIRECTOR (PROGRAMS AND PERFORMANCE), BUDGET STAFF.
ORR, DAVID MARSHALL | DIRECTOR, MANAGEMENT AND PLANNING STAFF.
PAGLIARINI, RAYMOND JR | DIRECTOR, PERSONNEL STAFF.
PAULL, MARCIA K | DEPUTY DIRECTOR (AUDITING).
PEREZ, MICHAEL A | DIRECTOR, ASSET FORFEITURE MANAGEMENT STAFF.
SANTANGELO, MARI BARR | DEPUTY ASSISTANT ATTORNEY GENERAL FOR HUMAN RESOURCES AND ADMINISTRATION (CHCO).
SCHULTZ JR, WALTER H | DEPUTY DIRECTOR, BUDGET STAFF.
NATIONAL DRUG INTELLIGENCE CENTER
WALTHER, MICHAEL F | DIRECTOR, NATIONAL DRUG INTELLIGENCE CENTER.
NATIONAL SECURITY DIVISION
GERRY, BRETT C | DEPUTY ASSISTANT ATTORNEY GENERAL.
ROWAN, PATRICK J | DEPUTY ASSISTANT ATTORNEY GENERAL.
OFFICE OF THE ATTORNEY GENERAL
ELWOOD, COURTNEY S | DEPUTY CHIEF OF STAFF AND COUNSELOR TO THE ATTORNEY GENERAL.
FRIEDRICH, MATTHEW | PRINCIPAL DEPUTY ASSISTANT ATTORNEY GENERAL AND CHIEF OF STAFF.
GOODLING, MONICA M | WHITE HOUSE LIAISON AND COUNSEL TO THE ATTORNEY GENERAL.
SAMPSON, D KYLE | CHIEF OF STAFF.
OFFICE OF THE ASSOCIATE ATTORNEY GENERAL
CINCIOTTA, LINDA A | SENIOR COUNSEL FOR ALTERNATIVE DISPUTE RESOLUTION.
GORSUCH, NEIL M | PRINCIPAL DEPUTY ASSOCIATE ATTORNEY GENERAL.
SWENSON, LILY F | DEPUTY ASSOCIATE ATTORNEY GENERAL.
OFFICE OF THE DEPUTY ATTORNEY GENERAL
DEFALAISE, LOUIS | DIRECTOR, OFFICE OF ATTORNEY RECRUITMENT AND MANAGEMENT.
ELSTON, MICHAEL | COUNSELOR AND CHIEF OF STAFF.
HORVATH, JANE | CHIEF PRIVACY AND CIVIL LIBERTIES OFFICER.
MARGOLIS, DAVID | ASSOCIATE DEPUTY ATTORNEY GENERAL.
MCFARLAND, STEVEN T | DIRECTOR, OFFICE OF FAITH BASED AND COMMUNITY INITIATIVES.
MONHEIM, THOMAS A | ASSOCIATE DEPUTY ATTORNEY GENERAL.
NASH, STUART G | DIRECTOR, ORGANIZED CRIME DRUG ENFORCEMENT TASK FORCE.
OTIS, LEE S | ASSOCIATE DEPUTY ATTORNEY GENERAL.
TENPAS, RONALD J | ASSOCIATE DEPUTY ATTORNEY GENERAL.
OFFICE OF FEDERAL DETENTION TRUSTEE
HYLTON, STACIA A | FEDERAL DETENTION TRUSTEE.
OFFICE OF THE INSPECTOR GENERAL
FORTINE OCHOA, CAROL A | ASSISTANT INSPECTOR GENERAL FOR OVERSIGHT & REVIEW.
MARTIN, PAUL K | DEPUTY INSPECTOR GENERAL.
MCLAUGHLIN, THOMAS F | ASSISTANT INSPECTOR GENERAL FOR INVESTIGATION.
PETERS, GREGORY T | ASSISTANT INSPECTOR GENERAL FOR MANAGEMENT AND PLANNING.
PRICE, PAUL A | ASSISTANT INSPECTOR GENERAL EVAULATION AND INSPECTION.
ROBINSON, GAIL A | GENERAL COUNSEL.
ZIMMERMAN, GUY K | ASSISTANT INSPECTOR GENERAL FOR AUDIT.
OFFICE OF INFORMATION AND PRIVACY
METCALFE, DANIEL J | DIRECTOR (POLICY AND LITIGATION).
OFFICE OF INTERGOVERNMENTAL AND PUBLIC LIAISON
JEZIERSKI, CRYSTAL R | DIRECTOR.
OFFICE OF INTELLIGENCE POLICY AND REVIEW
BAKER, JAMES A | COUNSEL FOR INTELLIGENCE POLICY.
BRADLEY, MARK A | DEPUTY COUNSEL FOR INTELLIGENCE POLICY.
KENNEDY, JOHN LIONEL | DEPUTY COUNSEL FOR INTELLIGENCE LAW.
SKELLY NOLEN, MARGARET A | DEPUTY COUNSEL FOR INTELLIGENCE OPERATIONS.
OFFICE OF JUSTICE PROGRAMS
AYERS, NANCY LYNN | DIRECTOR OF COMMUNICATIONS.
BURCH II, JAMES H | DEPUTY DIRECTOR FOR POLICY AND MANAGEMENT, BUREAU OF JUSTICE ASSISTANCE.
DALEY, CYBELE K | DEPUTY ASSISTANT ATTORNEY GENERAL.
FEUCHT, THOMAS E | DEPUTY DIRECTOR, RESEARCH AND EVAULATION.
FRALICK, GERALD L | CHIEF INFORMATION OFFICER.
GARRY, EILEEN | DEPUTY DIRECTOR FOR PROGRAMS, BUREAU OF JUSTICE ASSISTANCE.
GREENFELD, LAWRENCE | DEPUTY DIRECTOR FOR PLANNING, BUREAU OF JUSTICE ASSISTANCE.
GREENHOUSE, DENNIS E | DEPUTY DIRECTOR, OFFICE FOR VICTIMS OF CRIME.
HAGY, DAVID W | DEPUTY ASSISTANT ATTORNEY GENERAL.
HIGHTOWER, CAROLYN A | PRINCIPAL DEPUTY DIRECTOR, OFFICE FOR VICTIMS OF CRIME.
MADAN, RAFAEL A | GENERAL COUNSEL.
MCGARRY, BETH | DEPUTY ASSISTANT GENERAL FOR OPERATIONS MANAGEMENT.
MERKLE, PHILLIP | DIRECTOR, OFFICE OF ADMINISTRATION.
MORGAN, JOHN S | DIRECTOR, OFFICE OF SCIENCE AND TECHNOLOGY.
ROBERTS, MARILYN M | DEPUTY DIRECTOR PROGRAMS, OFFICE OF JUVENILE JUSTICE AND DELINQUENCY PREVENTION.
OFFICE OF LEGISLATIVE AFFAIRS
BURTON, M. FAITH | SPECIAL COUNSEL.
CLINGER, JAMES H | DEPUTY ASSISTANT ATTORNEY GENERAL.
SEIDEL, REBECCA S | DEPUTY ASSISTANT ATTORNEY GENERAL.
OFFICE OF LEGAL COUNSEL
BOARDMAN, MICHELLE E | DEPUTY ASSISTANT ATTORNEY GENERAL.
BRADBURY, STEVEN G | DEPUTY ASSISTANT ATTORNEY GENERAL.
COLBORN, PAUL P | SPECIAL COUNSEL.
EISENBERG, JOHN A | DEPUTY ASSISTANT ATTORNEY GENERAL.
ELWOOD, JOHN PATRICK | DEPUTY ASSISTANT ATTORNEY GENERAL.
HART, ROSEMARY A | SPECIAL COUNSEL.
KOFFSKY, DANIEL L | SPECIAL COUNSEL.
MARSHALL, C. KEVIN | DEPUTY ASSISTANT ATTORNEY GENERAL.
OFFICE OF LEGAL POLICY
HERTLING, RICHARD A | PRINCIPAL DEPUTY ASSISTANT ATTORNEY GENERAL.
JONES, KEVIN ROBERT | DEPUTY ASSISTANT ATTORNEY GENERAL.
MACKLIN, KRISTI R | DEPUTY ASSISTANT ATTORNEY GENERAL.
MCINTOSH, BRENT J | DEPUTY ASSISTANT ATTORNEY GENERAL.
OFFICE OF THE PARDON ATTORNEY
ADAMS. ROGER C | PARDON ATTORNEY.
OFFICE OF PROFESSIONAL RESPONSIBILITY
JARRETT, H. MARSHALL | COUNSEL ON PROFESSIONAL RESPONSIBILITY.
WISH, JUDITH B | DEPUTY COUNSEL ON PROFESSIONAL RESPONSIBILITY.
OFFICE OF THE SOLICITOR GENERAL
DREEBEN, MICHAEL R | DEPUTY SOLICITOR GENERAL.
GARRE, GREGORY G | PRINCIPAL DEPUTY SOLICITOR GENERAL.
HUNGAR, THOMAS G | DEPUTY SOLICITOR GENERAL.
KNEEDLER, EDWIN S | DEPUTY SOLICITOR GENERAL.
OFFICE ON VIOLENCE AGAINST WOMEN
BOTTNER, ANDREA G | PRINCIPAL DEPUTY DIRECTOR, OFFICE OF VIOLENCE AGAINST WOMEN.
OFFICE OF PUBLIC AFFAIRS
SCOLINOS, TASIA M | DIRECTOR.
TAX DIVISION
CIMINO, RONALD ALLEN | CHIEF, CRIMINAL ENFORCEMENT SECTION, WESTERN REGION.
CSONTOS, STEPHEN J | SPECIAL LITIGATION COUNSEL.
DICICCO, JOHN A | CHIEF, OFFICE OF REVIEW.
DONOHUE, DENNIS M | SENIOR LITIGATION COUNSEL.
FALLON, CLAIRE | DEPUTY ASSISTANT ATTORNEY GENERAL.
GUSTAFSON, DVAID | CHIEF, CLAIMS COURT SECTION.
HEALD, SETH G | CHIEF, CIVIL TRIAL SECTION, CENTRAL REGION.
HECHTKOPF, ALAN | CHIEF, CRIMINAL APPEALS AND TAX ENFORCEMENT POLICY SECTION.
HUBBERT, DAVID A | CHIEF, CIVIL TRIAL SECTION, EASTERN REGION.
HYTKEN, LOUISE P | CHIEF, CIVIL TRIAL SECTION, SOUTHWEST REGION.
KEARNS, MICHAEL J | CHIEF, CIVIL TRIAL SECTION, SOUTHERN REGION.
MORRISON, RICHARD T | DEPUTY ASSISTANT ATTORNEY GENERAL.
MULLARKEY, DANIEL P | CHIEF, CIVIL TRIAL SECTION, NORTHERN REGION.
MURRAY, FRED | DEPUTY ASSISTANT ATTORNEY GENERAL.
PAGUNI, ROSEMARY E | CHIEF, CRIMINAL ENFORCEMENT SECTION, NORTHERN REGION.
ROTHENBERG, GILBERT S | CHIEF, APPELLATE SECTION.
SALAD, BRUCE M | CHIEF, CRIMINAL ENFORCEMENT SECTION, SOUTHERN REGION.
WATKINS, ROBERT S | CHIEF, CIVIL TRIAL SECTION WESTERN REGION.
YOUNG, JOSEPH E | EXECUTIVE OFFICER.
UNITED STATES MARSHALS SERVICE
AUERBACH, GERALD | GENERAL COUNSEL.
BROWN, BROADINE M | ASSISTANT DIRECTOR FOR MANAGEMENT AND BUDGET.
DOLAN, EDWARD | CHIEF FINANCIAL OFFICER.
FARMER, MARC A | ASSISTANT DIRECTOR FOR JUDICIAL SECURITY.
FINAN II, ROBERT J | ASSISTANT DIRECTOR FOR INVESTIGATIVE SERVICES.
JONES, SYLVESTER E | ASSISTANT DIRECTOR FOR WITNESS SECURITY AND PRISONER OPERATIONS.
LITMAN, DIANE C | ASSISTANT DIRECTOR FOR INFORMATION TECHNOLOGY.
MEAD, GARY E | ASSISTANT DIRECTOR FOR BUSINESS SERVICES.
PEARSON, MICHAEL A | ASSISTANT DIRECTOR FOR EXECUTIVE SERVICES.
RODERICK JR, ARTHUR D | ASSISTANT DIRECTOR FOR OPERATIONS SUPPORT.
SMITH, SUZANNE D | ASSISTANT DIRECTOR OF HUMAN RESOURCES.
TRONO, ROBERT | DEPUTY DIRECTOR.

[FR Doc. 06-6977 Filed 8-16-06; 8:45 am]

BILLING CODE 4410-AR-M